FEDERAL COMMUNICATIONS COMMISSION

47 CFR Part 73

[DA 08-1185; MB Docket No. 08-30; RM-11419]

Television Broadcasting Services; Riverside, CA

AGENCY: Federal Communications Commission.

ACTION: Final rule.

SUMMARY: This document grants a channel substitution for KRCA-DT, Riverside, California, from Channel 45 to Channel 35.

DATES: The channel substitution is effective July 5, 2008.

FOR FURTHER INFORMATION CONTACT: Shaun A. Maher, Media Bureau, (202) 418-1600.

SUPPLEMENTARY INFORMATION: This is a synopsis of the Commission's Report and Order, MB Docket No. 08-30, adopted May 21, 2008, and released May 21, 2008. The full text of this Commission decision is available for inspection and copying during normal business hours in the FCC's Reference Information Center at Portals II, CY-A257, 445 Twelfth Street, SW., Washington, DC 20554. This document may also be purchased from the Commission's duplicating contractors, Best Copy and Printing, Inc., 445 12th Street, SW., Room CY-B402, Washington, DC 20554, telephone 1-800-378-3160 or via e-mail www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of l980 do not apply to this proceeding.

The Commission will send a copy of this Report and Order in a report to be sent to Congress and the Government Accountability Office pursuant to the Congressional Review Act, see 5 U.S.C. 801(a)(1)(A).

List of Subjects in 47 CFR Part 73

Television, Television broadcasting.

For the reasons discussed in the preamble, the Federal Communications Commission proposes to amend 47 CFR part 73 as follows:

PART 73—RADIO BROADCAST SERVICES

1. The authority citation for part 73 continues to read as follows:

Authority: 47 U.S.C. 154, 303, 334, 336.

2. Section 73.622(i), the post-transition DTV Table of Allotments is amended by revising the entry for “Riverside” under “California” to read as follows:

§ 73.622 Digital television table of allotments.

* * * * *

(i) * * *

Community | Channel
* * * * *
CALIFORNIA:
* * * * *
Riverside | 35

* * * * *

Federal Communications Commission.
Barbara A. Kreisman,
Chief, Video Division, Media Bureau.

[FR Doc. E8-12750 Filed 6-5-08; 8:45 am]

BILLING CODE 6712-01-P